DEPARTMENT OF THE INTERIOR

Bureau of Land Management

[BLM_ES_FRN_MO4500172068]

Notice of Intent To Amend the Resource Management Plan and Prepare an Associated Environmental Assessment; Notice of Realty Action: Proposed Sale of Public Lands in Simpson County, MS

AGENCY: Bureau of Land Management, Interior.

ACTION: Notice of intent; notice of realty action.

SUMMARY: In compliance with the National Environmental Policy Act of 1969, as amended (NEPA), and the Federal Land Policy and Management Act of 1976, as amended (FLPMA), the Bureau of Land Management (BLM) Eastern States State Director intends to prepare a resource management plan (RMP) amendment with an associated environmental assessment (EA) for the non-competitive direct sale of public land in Simpson County, Mississippi, and by this notice is announcing the beginning of the scoping period to solicit public comments and identify issues, providing the planning criteria for public review, and announcing a comment period on the proposed realty action offering for sale a tract of public land.

DATES: The BLM requests that the public submit comments concerning the scope of the analysis, potential alternatives, and identification of relevant information and studies by August 17, 2023. To afford the BLM the opportunity to consider issues raised by commenters in the Draft RMP Amendment and EA, please ensure your comments are received prior to the close of the 45-day scoping period or 15 days after the last public meeting, whichever is later.

ADDRESSES: You may submit comments on issues and planning criteria related to the Proposed RMP Amendment and Non-Competitive Direct Sale of Public Land in Simpson County, Mississippi, by any of the following methods:

• Website: https://eplanning.blm.gov/eplanning-ui/project/2016717/510.

• Mail: ATTN: Mississippi Tract 37, Southeastern States District Office, 273 Market Street, Flowood, MS 39232.

Documents pertinent to this proposal may be examined online at https://eplanning.blm.gov/eplanning-ui/project/2016717/510 and at the Southeastern States District Office.

FOR FURTHER INFORMATION CONTACT: Vicki Craft, Realty Specialist, telephone (601) 317-6971; address Southeastern States District Office, 273 Market Street, Flowood, MS 39232; email vcraft@blm.gov. Contact Ms. Craft to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Eastern States State Director intends to prepare an RMP amendment with an associated EA for the non-competitive direct sale of public land in Simpson County, Mississippi, announces the beginning of the scoping process, and seeks public input on issues and planning criteria. The RMP amendment is being considered to allow the BLM to evaluate the disposal of 12.3 acres of public land to Dempsey Sullivan, which would require amending the existing 2009 Mississippi RMP. The direct sale is subject to the applicable provisions of section 203 of FLPMA and BLM land-sale regulations at 43 CFR 2710. Publication of this notice in the Federal Register also segregates the subject land from all forms of appropriation under the public land laws, including the general mining laws, and from the mineral leasing and geothermal leasing laws, except for the sale provisions of FLPMA.

The planning area is in Simpson County, Mississippi, and encompasses approximately 12.3 acres of public land.

The scope of this land use planning process does not include addressing the evaluation or designation of areas of critical environmental concern (ACECs), and the BLM is not considering ACEC nominations as part of this process.

Purpose and Need

The need of the proposed action is to resolve an inadvertent, unauthorized use on public lands that were omitted from an official Federal survey in the early 1800's in Simpson County, Mississippi. The purpose for the proposed action is to transfer from Federal ownership the small parcel of land that is logistically and economically difficult to manage (FLPMA, 43 U.S.C. 1713(a)(1)). The BLM needs to amend the 2009 Mississippi RMP because section 203 of FLPMA specifically requires that land made available for disposal under the sale authority be clearly identified in the relevant land use plan. The BLM proposes to amend the 2009 Mississippi RMP to identify the tract as available for disposal through sale.

Preliminary Alternatives

The RMP identifies parcels suitable for disposal, and the subject land is not currently listed as available for disposal. The BLM will analyze the suitability for disposal of the 12.3 acres per the criteria listed in FLPMA section 203(a). The RMP amendment would allow for the land to be sold if it is found suitable for disposal.

The BLM is considering a direct sale of the following described land:

St. Stephens Meridian, Mississippi

T. 9 N., R. 17 W., Tract 37.

The area described contains 12.3 acres, according to the official plat of the survey of the said land on file with the BLM.

The conveyance document, if issued, will contain the following terms, covenants, conditions, and reservations:

1. All the mineral deposits in the land so patented pursuant to FLPMA (43 U.S.C. 1719), including, without limitation, substances subject to disposition under the general mining laws, the general mineral leasing laws, the Materials Act and the Geothermal Steam Act, and to it, its permittees, licensees, lessees, and mining claimants, the right to prospect for, mine, and remove the minerals owned by the United States under applicable law and such regulations as the Secretary of the Interior may prescribe. This reservation includes necessary access and exit rights and the right to conduct all necessary and incidental activities including, without limitation, all drilling, underground, open pit or surface mining operations, storage, and transportation facilities deemed reasonably necessary.

Unless otherwise provided by separate agreement with the surface owner, mining claimants, permittees, licensees, and lessees of the United States shall reclaim disturbed areas to the extent prescribed by regulations issued by the Secretary of the Interior.

All causes of action brought to enforce the rights of the surface owner under the regulations above referred to shall be instituted against mining claimants, permittees, licensees, and lessees of the United States; and the United States shall not be liable for the acts or omissions of its mining claimants, permittees, licensees, and lessees.

2. An appropriate indemnification clause protecting the United States from claims arising out of the patentee's use, occupancy, or operations on the patented land.

The No Action Alternative would not amend the 2009 Mississippi RMP to allow for the disposal of Tract 37. Tract 37 would be retained in Federal ownership and the BLM would continue to manage the small, isolated tract.

The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and stakeholders. The BLM has identified two preliminary issues for this planning effort's analysis:

(1) How would lands and realty be impacted by or impact the proposed sale?

(2) How would the proposed sale impact opportunities for public recreation and hunting?

Public Scoping Process

This notice of intent initiates the scoping period and public review of the planning criteria, which guide the development and analysis of the RMP Amendment and EA.

The BLM does not intend to hold any public meetings, in-person or virtual, during the public scoping period. Should the BLM later determine to hold public meetings, the specific date(s) and location(s) of any meeting will be announced at least 15 days in advance through announcements in the Magee Courier and the Mt. Olive Tribune newspapers as well as on the BLM Eastern States' Facebook page.

Sale Notifications

The segregation will terminate upon issuance of a conveyance or July 3, 2025, whichever occurs first. The BLM is no longer accepting land-use applications affecting the subject public land, except applications to amend previously filed right-of-way applications or existing authorizations to increase grant terms in accordance with 43 CFR 2807.15 and 43 CFR 2886.15.

The notification of the proposed RMP amendment and EA and, if applicable, signed finding of no significant impact (FONSI) would begin a 30-day protest period subject to BLM Manual Section 2711.1 step 4(d) on the land-sale decision. The BLM Eastern States State Director will review all protests and may sustain, vacate, or modify the RMP amendment and land sale, in whole or in part. In the absence of any protests and FONSI, the BLM may select the approved RMP amendment alternative and prepare a decision record which would document the final determination of the Department of the Interior for the land sale.

In addition to publication of this notice in the Federal Register, the BLM will publish this notice in the Magee Courier and the Mt. Olive Tribune newspapers once a week for three consecutive weeks. Any other subsequent notices related to the RMP amendment and land sale may also be published in the Magee Courier and the Mt. Olive Tribune newspapers.

Interdisciplinary Team

The BLM will use an interdisciplinary approach to develop the plan to consider the variety of resource issues and concerns identified. Specialists with expertise in the following disciplines will be involved in this planning effort: outdoor recreation, archaeology, wildlife, lands and realty, soils, vegetation, sociology, and economics.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; it may also be considered at multiple scales, including the landscape scale.

The BLM will utilize and coordinate the NEPA and land use planning processes for this planning effort to help support compliance with applicable procedural requirements under the Endangered Species Act (16 U.S.C. 1536), and section 106 of the National Historic Preservation Act (54 U.S.C. 306108) as provided in 36 CFR 800.2(d)(3), including public involvement requirements of section 106. The information about historic and cultural resources and threatened and endangered species within the area potentially affected by the proposed plan will assist the BLM in identifying and evaluating impacts to such resources.

The BLM will consult with Tribal Nations on a government-to-government basis in accordance with Executive Order 13175, BLM Manual Section 1780, and other Departmental policies. The BLM will send invitations to potentially affected Tribal Nations prior to consultation meetings. The BLM will provide additional opportunities for government-to-government consultation during the NEPA process. Tribal concerns, including impacts on Indian trust assets and potential impacts to cultural resources, will be given due consideration. Federal, State, and local agencies, along with Tribal Nations and stakeholders that may be interested in or affected by the Proposed RMP Amendment and Non-Competitive Direct Sale of Public Land in Simpson County, Mississippi, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9, 43 CFR 1610.2, and 43 CFR 2710)

Mitchell Leverette,
State Director, BLM Eastern States.

[FR Doc. 2023-14045 Filed 6-30-23; 8:45 am]

BILLING CODE 4331-18-P